DEPARTMENT OF AGRICULTURE

Forest Service

Eastern Arizona Counties Resource Advisory Committee

AGENCY: Forest Service, USDA.

ACTION: Notice of meeting.

SUMMARY: The Eastern Arizona Counties Resource Advisory Committee will meet in Show Low, Arizona. The purpose of the meeting is to evaluate project proposals for possible funding in accordance with Pub. L. 106-393 (the Secure Rural Schools and Community Self-Determination Act).

DATES: The meeting will be held September 12, 2003 starting at 1 p.m.

ADDRESSES: The meeting will be held in the conference room at the Sleep Inn, 1751 West Deuce of Clubs, Show Low, Arizona 85901. Send written comments to Robert Dyson, Eastern Arizona Counties Resource Advisory Committee, c/o Forest Service, USDA, P.O. Box 640, Springerville, Arizona 85938 or electronically to rdyson@fs.fed.us.

FOR FURTHER INFORMATION CONTACT: Robert Dyson, Public Affairs Officer, Apache-Sitgreaves National Forests, (928) 333-4301.

SUPPLEMENTARY INFORMATION: The meeting is open to the public. Committee discussion is limited to Forest Service staff and Committee members. However, persons who wish to bring Pub. L. 106-393 related matters to the attention of the Committee may file written statements with the Committee staff before or after the meeting. Public input sessions will be provided and individuals who made written requests by September 1, 2003, will have the opportunity to address the Committee at those sessions.

Dated: August 8, 2003.
Elaine J. Zieroth,
Forest Supervisor, Apache-Sitgreaves National Forests.

[FR Doc. 03-20998 Filed 8-15-03; 8:45 am]

BILLING CODE 3410-11-M